NUCLEAR REGULATORY COMMISSION

[Docket Nos. 50-259, 50-260, and 50-296]

Tennessee Valley Authority; Browns Ferry Nuclear Plant, Units 1, 2, and 3 Notice of Issuance of Renewed Facility Operating License Nos. DPR-33, DPR-52, and DPR-68 for an Additional 20-Year Period

Notice is hereby given that the U.S. Nuclear Regulatory Commission (the Commission) has issued Renewed Facility Operating License Nos. DPR-33, DPR-52, and DPR-68 to the Tennessee Valley Authority (the licensee), the operator of the Browns Ferry Nuclear Plant (BFN), Units Nos. 1, 2, and 3 (Unit 1, 2, and 3). Renewed Facility Operating License No. DPR-33 authorizes operation of BFN, Unit 1, by the licensee at reactor core power levels not in excess of 3293 megawatts thermal (1100 megawatts electric), in accordance with the provisions of the BFN renewed license and its Technical Specifications. Renewed Facility Operating License No. DPR-52 authorizes operation of BFN, Unit 2, by the licensee at reactor core power levels not in excess of 3458 megawatts thermal (1155 megawatts electric), in accordance with the provisions of the BFN renewed license and its Technical Specifications. Renewed Facility Operating License No. DPR-68 authorizes operation of BFN, Unit 3, by the licensee at reactor core power levels not in excess of 3458 megawatts thermal (1155 megawatts electric), in accordance with the provisions of the BFN renewed license and its Technical Specifications.

BFN, Units 1, 2, and 3, are located on the north shore of Wheeler Reservoir in Limestone County, Alabama, at Tennessee River Mile 294. The site is approximately 30 miles west of Huntsville, Alabama; it is also 10 miles northwest of Decatur, Alabama, and 10 miles southwest of Athens, Alabama. The licensee's application for the renewed licenses complied with the standards and requirements of the Atomic Energy Act of 1954, as amended (the Act), and the Commission's regulations. As required by the Act and the Commission's regulations in 10 CFR Chapter I, the Commission has made appropriate findings, which are set forth in each license. Prior public notice of the action involving the proposed issuance of the renewed licenses and of an opportunity for a hearing regarding the proposed issuance of the renewed licenses was published in the Federal Register on March 10, 2004 (69 FR 11460).

For further details with respect to this action, see (1) the Tennessee Valley Authority license renewal application for Browns Ferry Nuclear Plant, Units 1, 2, and 3 dated December 31, 2003, as supplemented by letters dated through April 4, 2006; (2) the Commission's safety evaluation report (NUREG-1843 and Supplement 1), published in April 2006; and (3) the Commission's final environmental impact statement (NUREG-1437, Supplement 21), published in June 2005. These documents are available at the NRC Public Document Room, One White Flint North, 11555 Rockville Pike, Rockville, Maryland 20852, and can be viewed from the NRC Public Electronic Reading Room at (http://www.nrc.gov/reading-rm/adams.html).

Copies of Renewed Facility Operating License Nos. DPR-33, DPR-52, and DPR-68 may be obtained by writing to the U.S. Nuclear Regulatory Commission, Washington, DC 20555-0001, Attention: Director, Division of License Renewal. Copies of the BFN, Units 1, 2, and 3, Safety Evaluation Report (NUREG-1843 and Supplement 1) and the Final Environmental Impact Statement (NUREG-1437, Supplement 21) may be purchased from the National Technical Information Service, U.S. Department of Commerce, Springfield, VA 22161-0002 (http://www.ntis.gov), 703-605-6000, or the Superintendent of Documents, U.S. Government Printing Office, P.O. Box 371954, Pittsburgh, PA 15250-7954 (http://www.gpoaccess.gov), 202-512-1800. All orders should clearly identify the NRC publication number and the requester's Government Printing Office deposit account number or a VISA or MasterCard number and expiration date.

Dated at Rockville, Maryland, this 4th day of May 2006.
For the Nuclear Regulatory Commission.
Pao-Tsin Kuo,
Deputy Director, Division of License Renewal, Office of Nuclear Reactor Regulation.

[FR Doc. E6-6995 Filed 5-8-06; 8:45 am]

BILLING CODE 7590-01-P